DEPARTMENT OF LABOR

Mine Safety and Health Administration

Proposed Information Collection; Hazardous Conditions Complaints

AGENCY: Mine Safety and Health Administration, Labor.

ACTION: Request for public comments.

SUMMARY: The Department of Labor, as part of its continuing effort to reduce paperwork and respondent burden, conducts a pre-clearance consultation program to provide the general public and Federal agencies with an opportunity to comment on proposed and continuing collections of information in accordance with the Paperwork Reduction Act of 1995, 44 U.S.C. 3506(c)(2)(A). This program helps to assure that requested data can be provided in the desired format, reporting burden (time and financial resources) is minimized, collection instruments are clearly understood, and the impact of collection requirements on respondents can be properly assessed. Currently, the Mine Safety and Health Administration (MSHA) is soliciting comments concerning the proposed information collection for updating Hazardous Conditions Complaints 30 CFR 43.4 and 43.7.

DATES: All comments must be postmarked or received by midnight Eastern Standard Time on October 21, 2013.

ADDRESSES: Comments concerning the information collection requirements of this notice may be sent by any of the methods listed below.

• Federal E-Rulemaking Portal: http://www.regulations.gov. Follow the on-line instructions for submitting comments for docket number [MSHA-2013-0024].

• Regular Mail or Hand Delivery: MSHA, Office of Standards, Regulations, and Variances, 1100 Wilson Boulevard, Room 2350, Arlington, VA 22209-3939. Sign in at the receptionist's desk on the 21st floor.

FOR FURTHER INFORMATION CONTACT: Sheila McConnell, Deputy Director, Office of Standards, Regulations, and Variances, MSHA, at McConnell.Sheila.A@dol.gov (email); 202-693-9440 (voice); or 202-693-9441 (facsimile).

SUPPLEMENTARY INFORMATION:

I. Background

Under Section 103(g) of the Federal Mine Safety and Health Act of 1977, as amended (Mine Act), a representative of miners, or any individual miner where there is no representative of miners, may submit a written or oral notification of an alleged violation of the Mine Act or a mandatory standard that an imminent danger exists. The notifier has the right to obtain an immediate inspection by the Mine Safety and Health Administration (MSHA). A copy of the notice must be provided to the operator, with individual miner names redacted.

MSHA regulations at 30 CFR Part 43 implement Section 103(g) of the Mine Act. These regulations provide the procedures for submitting notification of the alleged violation or imminent danger and the actions that MSHA must take after receiving the notice. Although the regulations contain a review procedure (required by Section 103(g)(2) of the Mine Act) whereby a miner or a representative of miners may in writing request a review if no citation or order is issued as a result of the original notice, the option is so rarely used that it was not considered in the burden estimates.

II. Desired Focus of Comments

MSHA is soliciting comments concerning the proposed extension of the information collection related to Hazardous Conditions Complaints in 30 CFR 43.4 and 43.7. MSHA is particularly interested in comments that:

• Evaluate whether the collection of information is necessary for the proper performance of the functions of the agency, including whether the information has practical utility;

• Evaluate the accuracy of the MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

This proposed information collection request is available on MSHA's Web site at http://www.msha.gov under “Federal Register Documents” on the right side of the screen by selecting “New and Existing Information Collections and Supporting Statements”. This proposed information collection request will be available on MSHA's Web site for 60 days after the publication date of this notice, and on http://www.regulations.gov. Because comments will not be edited to remove any identifying or contact information, MSHA cautions the commenter against including any information in the submission that should not be publicly disclosed.

The public may also examine the proposed information collection at MSHA, Office of Standards, Regulations, and Variances, 1100 Wilson Boulevard, Room 2350, Arlington, VA 22209-3939 by signing in at the receptionist's desk on the 21st floor.

Questions about the information collection requirements may be directed to the person listed in the FOR FURTHER INFORMATION CONTACT section of this notice.

III. Current Actions

This request for collection of information contains notification and recordkeeping provisions for the Proposed Information Collection Request Submitted for Public Comment and Recommendations; Hazardous Conditions Complaints 30 CFR 43.4 and 43.7. MSHA has updated the data in respect to the number of respondents and responses, as well as the total burden hours and burden costs supporting this information collection request.

Type of Review: Extension.

Agency: Mine Safety and Health Administration.

Title: Hazardous Conditions Complaints 30 CFR 43.4 and 43.7.

OMB Number: 1219-0014.

Affected Public: Business or other for-profit; Individuals or Households.

Total Number of Respondents: 2,431.

Frequency: Various.

Total Number of Responses: 2,431.

Total Burden Hours: 486 hours.

Total Annual Respondent or Recordkeeper Cost Burden: $0.

Comments submitted in response to this notice will be summarized and included in the request for Office of Management and Budget approval of the information collection request; they will also become a matter of public record.

Dated: August 16th, 2013.
George F. Triebsch,
Certifying Officer.

[FR Doc. 2013-20365 Filed 8-20-13; 8:45 am]

BILLING CODE 4510-43-P